COMMODITY FUTURES TRADING COMMISSION

Application of the Chicago Board of Trade for Designation as a Contract Market in Dow Jones Composite Average ℠ Index Futures and Futures Options

AGENCY: Commodity Futures Trading Commission.

ACTION: Notice of availability of terms and conditions of proposed commodity futures and futures options contract.

SUMMARY: The Chicago Board of Trade (CBT or Exchange) has applied for designation as a contract market in Dow Jones Composite Average ℠ futures and options. The Acting Director of the Division of Economic Analysis (Division) of the Commission, acting pursuant to the authority delegated by Commission Regulation 140.96, has determined that publication of the proposals for comment is in the public interest, will assist the Commission in considering the views of interested persons, and is consistent with the purpose of the Commodity Exchange Act.

DATES: Comments must be received on or before May 15, 2000.

ADDRESS: Interested persons should submit their views and comments to Jean A. Webb, Secretary, Commodity Futures Trading Commission, Three Lafayette Centre, 1155 21st Street, NW, Washington, DC 20581. In addition, comments may be sent by facsimile transmission to facsimile number (202) 418-5521 or by electronic mail to secretary@cftc.gov. Reference should be made to the Chicago Board of Trade (CBT) Dow Jones Composite Average ℠ Index futures and futures options contracts.

FOR FURTHER INFORMATION CONTACT: Please contact Thomas Leahy of the Division of Economic Analysis, Commodity Futures Trading Commission, Three Lafayette Centre, 1155 21st Street NW, Washington, DC (202 418-5278. Facsimile number: (202) 418-5527. Electronic mail: tleahy@cftc.gov.

SUPPLEMENTARY INFORMATION: There do not appear to be any substantive issues raised by the applications. In this regard, the contracts are substantially the same as previously approved contracts on the Dow Jones Industrial Average, Dow Jones Utility Average, and Dow Jones Transportation Average. In addition, the proposed underlying index is the composite of the indexes underlying those previously approved contracts. Accordingly, the Division believes that an abbreviated 15-day comment period is appropriate for the subject applications.

Copies of the terms and conditions will be available for inspection at the Office of the Secretariat, Commodity futures Trading Commission, Three Lafayette Centre, 1155 21st Street NW, Washington, DC 20581. Copies of the terms and conditions can be obtained through the Office of the Secretariat by mail at the above address or by phone at (202) 418-5100.

Other materials submitted by the CBT in support of the applications for contract market designation may be available upon request pursuant to the Freedom of Information Act (5 U.S.C. 552) and the Commission's regulations thereunder (17 CFR part 145 (1997)), except to the extent they are entitled to confidential treatment as set forth in 17 CFR 145.5 and 145.9. Requests for copies of such materials should be made to the FOI, Privacy and Sunshine Act Compliance Staff of the Office of Secretariat at the Commission's headquarters in accordance with 17 CFR 145.7 and 145.8.

Any person interested in submitting written data, views, or arguments on the proposed terms and conditions, or with respect to other materials submitted by the CBT should send such comments to Jean A. Webb, Secretary, Commodity Futures Trading Commission, Three Lafayette Centre, 1155 21st Street NW, Washington, DC 20581 by the specified date.

Issued in Washington, DC, on April 24, 2000.
Richard A. Shilts,
Acting Director.

[FR Doc. 00-10643 Filed 4-27-00; 8:45 am]

BILLING CODE 6351-01-M